DEPARTMENT OF THE INTERIOR

Bureau of Land Management

[CO-150-1220-PA]

Notice of Final Supplementary Rules for Public Lands in Colorado: Escalante Canyon Area of Critical Environmental Concern (ACEC), Escalante Potholes Recreation Area, and Escalante Bridge Boat Launch Site

AGENCY: Bureau of Land Management, Interior.

ACTION: Notice of final supplementary rules.

SUMMARY: The Bureau of Land Management's (BLM) Uncompahgre Field Office is implementing supplementary rules to regulate conduct on specific public lands within Escalante Canyon in Montrose and Delta Counties. The rules apply to the following Escalante Canyon recreation sites: Escalante Bridge boat launch site, Escalante Canyon Area of Critical Environmental Concern (ACEC), and the Potholes Recreation Area. BLM has determined these rules necessary to protect the area's natural resources and to provide for safe public recreation, public health, and reduce the potential for damage to sensitive resources including unique riparian areas and threatened and rare plant species and habitat.

EFFECTIVE DATE: The rules are effective March 8, 2005.

ADDRESSES: Bureau of Land Management, Uncompahgre Field Office, 2505 S. Townsend Avenue, Montrose, Colorado 81401.

FOR FURTHER INFORMATION CONTACT: Barbara Sharrow, Uncompahgre Field Office Manager, 2505 S. Townsend Avenue, Montrose, CO 81401, (970) 240-5315, or by e-mail: Barbara_sharrow@co.blm.gov.

SUPPLEMENTARY INFORMATION:

I. Lands Affected

The identified public lands are in Colorado, Montrose and Delta Counties, under the management jurisdiction of the Bureau of Land Management. The Escalante boat launch site is located within sec. B, T. 15 S., R. 97 W., 6th Principal Meridian. The Escalante Canyon ACEC is located secs. 20-22 and 28-30, T. 51 N., R. 13 W., and secs 25 and 36, T. 51, R.14 W., New Mexico Principal Meridian. The Potholes Recreation Area is located within the ACEC at NE¼SW¼ Sec. 21, T. 51 N., R. 13 W.

The 1,895 acre Escalante ACEC was designated in the 1989 Uncompahgre Basin Resource Management Plan (RMP) to provide protection from surface disturbing activities for several listed plant species including the Unita hookless cactus (threatened, Grand Junction milkvetch (candidate), Delta lomatium (sensitive), and three unique plant associations. The State of Colorado, Natural Areas Program also designated the area as a Colorado State Natural Area in 1992 based on threatened and rare plants, unique plant communities and significant geologic interest. The Escalante boat ramp site is extremely limited due to natural topography, private land, and a railroad crossing and right -of -way. Overnight camping by boating groups at the small site is a safety hazard and inconvenience for other users trying to launch boats at the site. The Escalante Potholes site receives significant recreational use due to its scenic qualities and the presence of eroded potholes in Escalante Creek which are used for swimming. The practice of visitors diving and jumping from heights of 30-100 feet off surrounding cliffs into the holes has resulted in numerous accidents and at least 5 deaths over the last 12 years. In addition to jumping, visitors also cause significant resource damage to the area by cutting trees for bonfires, shooting or throwing glass bottles around the swimming and camping areas; leaving trash; and improperly disposing of human waste. Underage drinking and drug-related activity, particularly associated with overnight camping and bonfire parties, is increasing and adding to visitor safety concerns and BLM compliance problems. Complaints regarding the amount of public nudity at the site are increasing as are conflicts between various user groups. The BLM is currently installing recreation facilities at the Potholes to address sanitation problems, resource impacts, and restrict visitor use and parking to certain areas to increase safety and protect sensitive sites. Additional visitor use restrictions are needed to address the problems associated with unsafe jumping and diving, target shooting, broken glass safety concerns, damage to trees and sensitive plant communities from fire wood collecting, improper off-highway vehicle use, and unrestricted overnight camping.

II. Discussion of the Supplementary Rule

These supplementary rules are needed to address significant public safety concerns and resource protection issues resulting from increased public use and unsafe user conduct at popular recreation sites within Escalante Canyon and the Escalante Canyon ACEC. The rules would apply to the public lands located at the Escalante boat launch site, Escalante Canyon ACEC, and the Potholes Recreation Area at the legal descriptions provided above. A notice proposing these supplementary rules was published in the Federal Register on November 26, 2004 (69 FR 68975). We received no comments on the proposed supplementary rules, and therefore publish them unchanged as final supplementary rules.

III. Procedural Matters

Executive Order 12866, Regulatory Planning and Review

These supplementary rules are not significant regulatory actions and not subject to review by the Office of Management and Budget under Executive Order 12866. These supplementary rules will not have an effect of $100 million or more on the economy. They will not adversely affect in a material way the economy, productivity, competition, jobs, the environment, public health or safety, or state, local, or tribal governments or communities. These supplementary rules will not create a serious inconsistency or otherwise interfere with an action taken or planned by another agency. The supplementary rules do not alter the budgetary effects of entitlements, grants, user fees, or loan programs or the right or obligations of their recipients; nor does it raise novel legal or policy issues. These supplementary rules contain rules of conduct for public use of a limited selection of public lands.

Clarity of the Regulations

Executive Order 12866 requires each agency to write regulations that are simple and easy to understand. We invite your comments on how to make this supplementary rule easier to understand, including answers to questions such as the following:

1. Are the requirements in the supplementary rule clearly stated?

2. Does the supplementary rule contain technical language or jargon that interferes with their clarity?

3. Does the format of the supplementary rule (grouping and order of sections, use of headings, paragraphing, etc.) aid or reduce clarity?

4. Is the description of the supplementary rule in the SUPPLEMENTARY INFORMATION section of this preamble helpful in understanding the supplementary rule? How could this description be more helpful in making the supplementary rule easier to understand?

Please send any comments you have on the clarity of the rule to the address specified in the ADDRESSES section.

National Environmental Policy Act

These supplementary rules do not constitute a major Federal action significantly affecting the quality of the human environment. The rules merely contain rules of conduct for public use of a limited selection of public lands to protect public health and safety and improve the protection of the resources. Although some uses, such as target shooting or overnight camping, will be prohibited at some of the site, all of the areas would still be open to other recreation uses. A detailed statement under the National Environmental Policy Act of 1969 is not required.

Regulatory Flexibility Act

Congress enacted the Regulatory Flexibility Act of 1980, as amended, 5 U.S.C. 601-612, to ensure that Government regulations do not unnecessarily or disproportionately burden small entities. The RFA requires a regulatory flexibility analysis if a rule would have a significant economic impact, either detrimental or beneficial, on a substantial number of small entities. These supplementary rules merely contain rules of conduct for public use of a limited selection of public lands. Therefore, BLM has determined under the RFA that this supplementary rule would not have a significant economic impact on a substantial number of small entities.

Small Business Regulatory Enforcement Fairness Act (SBREFA)

These supplementary rules are not “major” as defined under 5 U.S.C. 804(2). The supplementary rules merely contain rules of conduct for public use of a limited selection of public lands and do not affect commercial or business activities of any kind.

Unfunded Mandates Reform Act

These supplementary rules do not impose an unfunded mandate on State, local, or tribal governments or the private sector of more than $100 million per year; nor does it have a significant or unique effect on State, local, or tribal governments or the private sector. The rules have no effect on governmental or tribal entities and would impose no requirements on any of these entities. The supplementary rules merely contain rules of conduct for public use of a limited selection of public lands and do not affect tribal, commercial, or business activities of any kind. Therefore, BLM is not required to prepare a statement containing the information required by the Unfunded Mandates Reform Act (2 U.S.C. 1531 et seq.)

Executive Order 12630, Governmental Actions and Interference With Constitutionally Protected Property Rights (Takings)

These supplementary rules do not represent a government action capable of interfering with Constitutionally-protected property rights. They merely contain rules of conduct for public use or a limited selection of public lands. The supplementary rules merely contain rules of conduct for public use of a limited selection of public lands and do not affect anyone's property rights. Therefore, the Department of the Interior has determined that these rules will not cause a taking of private property or require further discussion of takings implications under this Executive Order.

Executive Order 13132, Federalism

These supplementary rules will not have a substantial direct effect on the States, on the relationship between the national government and the States, or on the distribution of power and responsibilities among the various levels of government. These supplementary rules do not come into conflict with any state law or regulation. Therefore, in accordance with Executive Order 13132, BLM has determined that these supplementary rules do not have sufficient federalism implications to warrant preparation of a federalism assessment.

Executive Order 12988, Civil Justice Reform

Under Executive Order 12988, the Office of the Solicitor has determined that these rules will not unduly burden the judicial system and that it meets the requirements of sections 3(a) and 3(b)(2) of the Order.

Executive Order 13175, Consultation and Coordination With Indian Tribal Governments

In accordance with Executive Order 13175, we have found that these supplementary rules do not include policies that have tribal implications. None of the lands included in these rules affect Indian lands or Indian Rights.

Paperwork Reduction Act

These supplementary rules do not contain information collection requirements that the Office of Management and Budget must approve under the Paperwork Reduction Act of 1995, 44 U.S.C. 3501 et seq. The information collection requirements contained in these rules are exempt from the provisions of the Paperwork Reduction Act of 1995, 44 U.S.C. 3518(c)(1). Federal criminal investigations or prosecutions may result from these rules and are exempt from the Paperwork Reduction Act.

Authors

The principal author of these supplementary rules is Gunnison Gorge NCA Manager Karen Tucker.

Supplementary Rules

Under 43 CFR 8365.1-6, the Bureau of Land Management will enforce the following supplementary rules on public lands in the areas specified below.

Escalante Canyon ACEC:

a. Camping restricted to designated and signed campsites.

b. No target shooting or shooting of paintball weapons.

c. No cutting of live or dead trees.

d. No person shall use or possess to use as firewood, any materials containing nails, screws or other metal hardware to include, but not limited to, wood pallets and/or construction debris.

e. All campers, picnickers, and all other persons using public lands shall keep their sites free of trash, litter, and debris during the period of occupancy and shall remove all personal equipment and clean their sites upon departure.

Escalante Potholes: The Escalante Potholes Recreation Site is designated as a day use only area with the following supplemental rules that all visitors must follow:

a. No diving and/or jumping from rocks, shore, or any other means into the water.

b. No discharge of firearms of any kind, including those used for target shooting or paintball weapons.

c. No glass containers for beverages, food, or other items.

d. No public nudity.

e. No overnight camping at swimming area; camping is allowed only in designated sites adjacent to Potholes area.

f. No cutting of live or dead trees.

g. No wood collecting.

h. No wood fires or bonfires.

i. No person shall use or possess to use as firewood, any materials containing nails, screws or other metal hardware to include, but not limited to, wood pallets and/or construction debris.

j. All picnickers, and all other persons using public lands shall keep their sites free of trash, litter, and debris during the period of occupancy and shall remove all personal equipment and clean their sites upon departure.

Escalante Bridge Boat Launch Site: The Escalante Bridge Boat Launch Site is designated as a day use only area with the following supplemental rules that all visitors must follow:

a. No overnight camping.

b. No cutting of live or dead trees.

c. No wood collecting.

d. No wood fires or bonfires.

e. No discharge of firearms of any kind, including those used for target shooting or paintball weapons.

(f) No person shall use or possess to use as firewood, any materials containing nails, screws, or other metal hardware to include, but not limited to, wood pallets and/or construction debris.

(g) All campers, picnickers, and all other persons using public lands shall keep their sites free of trash, litter, and debris during the period of occupancy and shall remove all personal equipment and clean their sites upon departure.

Penalties

Under section 303(a) of the Federal Land Policy and Management Act of 1976 (43 U.S.C. 1733(a) and Sentencing Reform Act of 1984, as amended, 18 U.S.C. 3551, or 3571, if you violate these supplementary rules on public lands within the boundaries established in the rule, you may be tried before a United States Magistrate and fined up to $100,000 or imprisoned for no more than 12 months, or both.

Dated: January 26, 2005.
Ron Wenker,
Colorado State Director.

[FR Doc. 05-4425 Filed 3-7-05; 8:45 am]

BILLING CODE 4310-JB-P